Proclamation 10797 of August 30, 2024

National Preparedness Month, 2024

By the President of the United States of America

A Proclamation

During National Preparedness Month, we honor our first responders for their bravery in helping us respond to natural disasters, and we recommit to equipping Americans with the resources they need to overcome the climate crisis and bouts of extreme weather and emerge stronger, more resilient, and more secure.

Across the country, historic heat waves, flooding, and fires have tragically claimed the lives of too many Americans. These crises have impacted communities by keeping children out of schools, hurting small businesses, and destroying infrastructure—and they are only getting more ferocious and costly with climate change. Disasters affect people across our Nation, but the most vulnerable among us typically bear the greatest impacts—from housing insecurity to financial hardship.

My Administration has taken historic action to prepare and protect communities and make our Nation more resilient. Thanks to the Bipartisan Infrastructure Law and Inflation Reduction Act, we are investing more than $50 billion in climate resilience, ensuring communities can prepare for and recover from extreme weather events. For example, we are elevating roads and bridges over projected flood zones, and we are upgrading buildings to make them stronger and more energy efficient. We are also planting trees to protect neighborhoods from extreme heat.

Since taking office, Vice President Harris and I have traveled across the country and directed our team to meet people where they are when they need our help the most. To that end, we have made substantial changes to our Federal assistance policies, making it easier for disaster survivors to receive much-needed support and resources. The Federal Emergency Management Agency (FEMA) has expanded benefits for Americans applying for disaster relief and simplified the disaster assistance application process, reducing the burden on overwhelmed families and individuals. My Administration also secured $6.8 billion for FEMA under the Bipartisan Infrastructure Law to support communities suffering from disaster and avoid future disaster. In total, we have provided hundreds of billions of dollars in disaster relief funding to communities nationwide, including FEMA public and individual assistance, Small Business Administration disaster assistance loans, COVID Economic Injury Disaster Loans, and other supplemental funds.

There is still more work to do to improve the safety and security of our country, so my Administration has also taken steps to protect Americans' lives and livelihoods. No American should worry about how they will get the care they need if disaster strikes. That is why we have expanded the Affordable Care Act and lowered the cost of health care for Americans and working families. We have also created new jobs that strengthen our country and ensure that we have the resources we need—especially in times of crisis. To get prepared and learn more about how to keep your family and community ready, visit Ready.gov or Listo.gov for Spanish speakers.

During National Preparedness Month, we recommit to ensuring that our Nation is ready for any challenge that comes our way. We support efforts to keep Americans safe, and we encourage optimism and preparation for our shared future.

NOW, THEREFORE, I, JOSEPH R. BIDEN JR., President of the United States of America, by virtue of the authority vested in me by the Constitution and the laws of the United States, do hereby proclaim September 2024 as National Preparedness Month. I encourage all Americans to recognize the importance of preparedness and work together to enhance our resilience and readiness.

IN WITNESS WHEREOF, I have hereunto set my hand this thirtieth day of August, in the year of our Lord two thousand twenty-four, and of the Independence of the United States of America the two hundred and forty-ninth.

[FR Doc. 2024-20123

Filed 9-4-24; 8:45 am]

Billing code 3395-F4-P